DEPARTMENT OF HEALTH AND HUMAN SERVICES

National Institutes of Health

Center for Scientific Review; Amended Notice of Meeting

Notice is hereby given of a change in the meeting of the Hypertension and Microcirculation Study Section, October 10, 2013, 08:00 a.m. to October 10, 2013, 07:30 p.m., Washington Hilton Hotel, 1919 Connecticut Ave. NW., Washington, DC 20009 which was published in the Federal Register on September 17, 2013, 78 FR 180 Pgs. 57168-57169.

The meeting will start on December 19, 2013 at 7:30 a.m. and end on December 19, 2013 at 8:00 p.m. The meeting location remains the same. The meeting is closed to the public.

Dated: October 25, 2013.
Anna Snouffer,
Deputy Director, Office of Federal Advisory Committee Policy.

[FR Doc. 2013-25769 Filed 10-29-13; 8:45 am]

BILLING CODE 4140-01-P